DEPARTMENT OF ENERGY

Federal Energy Regulatory Commission

[Project No 848-037]

Wells Rural Electric Company; Notice of Application Tendered for Filing With the Commission and Soliciting Additional Study Requests and Establishing Procedural Schedule for Relicensing and a Deadline for Submission of Final Amendments

Take notice that the following hydroelectric application has been filed with the Commission and is available for public inspection.

a. Type of Application: New License.

b. Project No.: P-848-037.

c. Date filed: May 18, 2016.

d. Applicant: Wells Rural Electric Company.

e. Name of Project: Trout Creek Hydroelectric Project.

f. Location: On Trout Creek, near the Town of Wells, Elko County, Nevada. The project's intake structure, pipeline, debris collection box, surge tank and approximately 1,500 feet of penstock are located on federal land managed by the United States Forest Service.

g. Filed Pursuant to: Federal Power Act 16 U.S.C. 791(a)-825(r).

h. Applicant Contact: Lonnie Abbott, Manager of Loss Control and Risk Services, Wells Rural Electric Company, P.O. Box 365, Wells, Nevada 89835, (775) 752-1516 or labbott@wrec.coop.

FERC Contact: Joseph Hassell, 202-502-8079 or joseph.hassell@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: July 18, 2016.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-848-037.

m. The application is not ready for environmental analysis at this time.

n. The existing Trout Creek project consists of: (1) An intake structure on a spring feeding Trout Creek; (2) a 14-inch-diameter, 715-foot-long steel pipe; (3) a debris collection box; (4) a 15-inch-diameter, 1900-foot-long PVC pipe; (4) an 8-foot-diameter, 20-foot high surge tank; (5) a 16-inch-diameter, 2,125-foot-long penstock; (6) a powerhouse with a 125-kilowatt turbine-generator unit (7) a 5 to 7-foot-wide, 30-foot-long tailrace; (8) a 4,412-foot-long, 24.9-kV transmission line; and, (9) appurtenant facilities. The project is estimated to generate an average of 325,000 kilowatt-hours annually.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

q. Procedural schedule and final amendments: The application will be processed according to the following preliminary Hydro Licensing Schedule. Revisions to the schedule will be made as appropriate.

Issue Notice of Acceptance | May 2016.
Issue Scoping Document 1 for comments | June 2016.
Comments on Scoping Document 1 | July 2016.
Issue Scoping Document 2 | October 2016.
Issue notice of ready for environmental analysis | October 2016.
Commission issues EA, draft EA, or draft EIS | April 2017.
Comments on EA or draft EA or draft EIS | May 2017.
Commission issues final EA of final EIS | July 2017.

Final amendments to the application must be filed with the Commission no later than 30 days from the issuance date of the notice of ready for environmental analysis.

Dated: May 26, 2016.
Kimberly D. Bose,
Secretary.

[FR Doc. 2016-13424 Filed 6-6-16; 8:45 am]

BILLING CODE 6717-01-P